DEPARTMENT OF COMMERCE

National Oceanic and Atmospheric Administration

[I.D. 103001B]

Endangered and Threatened Species; Take of Anadromous Fish

AGENCY: National Marine Fisheries Service (NMFS), National Oceanic and Atmospheric Administration (NOAA), Commerce.

ACTION: Amended notice for applications for scientific research permits 1156 and 1335.

SUMMARY: NMFS is amending the notice for applications for ESA scientific research permits from United States Environmental Protection Agency in Corvallis, OR (EPA) and United States Forest Service (USFS) in Corvallis, OR.

DATES: Comments or requests for a public hearing on any of the applications must be received at the appropriate address or fax number (see address) no later than 5 p.m. Pacific daylight time on December 10, 2001.

ADDRESSES: Written comments on the applications should be sent to Protected Resources Division (PRD), F/NWO3, 525 NE Oregon Street, Suite 500, Portland, OR 97232-2737 (503-230-5400). Comments may also be sent via fax to 503-230-5435. Comments will not be accepted if submitted via e-mail or the internet.

FOR FURTHER INFORMATION CONTACT: Cherelle Blazer, Portland, OR, phone: 503-231-2001, fax: 503-230-5435, e-mail: Cherelle.Blazer@noaa.gov.

SUPPLEMENTARY INFORMATION:

Species Covered in This Notice

Chinook salmon (Oncorhynchus tshawytscha): Endangered Upper Columbia River (UCR), Threatened Lower Columbia River (LCR), Threatened Puget Sound (PS)

Steelhead (O. mykiss): Endangered UCR, Threatened Middle Columbia River (MCR), T O. keta hreatened LCR, Threatened Upper Willamette River (UWR)

Chum salmon (????): Threatened Columbia River (CR), Threatened Hood Canal summer-run (HC)

Amended Notice

On April 19, 2000, NMFS published a notification (65 FR 20954) that EPA requested an amendment to a modification request for permit 1156. The request was to take LCR chinook salmon associated with research designed to collect data to enforce the Clean Water Act in the Pacific Northwest. EPA had also requested take of UW steelhead associated with the research but it was not included in the notice. The additional species were requested because an additional sampling location was added to the research to accommodate and coordinate with the Regional Environmental Monitoring and Assessment Program in the Cascades Ecoregion. The EPA proposes to capture (using electrofishing), examine, and release fish. The modification as amended is requested to be valid for the duration of the permit, which expires on December 31, 2002.

On July 20, 2001, NMFS published a notice (66 FR 37947) that USFS requested 5-year permit (1335) to take adult and juvenile CR chum salmon in three tributaries of the Columbia River in Washington state. EPA had also requested take of juvenile UCR, LCR, and PS chinook salmon; UCR, MCR, and LCR steelhead; and CR and HC chum salmon associated with the research but they were not included in the notice. USFS proposes to capture (using backpack electrofishing), anesthetize, measure, and release fish. USFS also requests juvenile fish indirect mortality associated with the research.

Dated: November 6, 2001.
Margaret Lorenz,
Acting Chief, Endangered Species Division, Office of Protected Resources, National Marine Fisheries Service.

[FR Doc. 01-28241 Filed 11-8-01; 8:45 am]

BILLING CODE 3510-22-S